DEPARTMENT OF HOMELAND SECURITY

U.S. Citizenship and Immigration Services

Agency Information Collection Activities: Forms G-1041 and G-1041A, Extension of a Currently Approved Information Collection; Comment Request

ACTION: 30-Day Notice of Information Collection Under Review: Forms G-1041 and G-1041A, Genealogy Index Search Request and Genealogy Records Request.

The Department of Homeland Security, U.S. Citizenship and Immigration Services (USCIS) will be submitting the following information collection request to the Office of Management and Budget (OMB) for review and clearance in accordance with the Paperwork Reduction Act of 1995. The information collection notice was previously published in the Federal Register on February 16, 2012, at 77 FR 9259, allowing for a 60-day public comment period. USCIS did not receive any comments for this information collection.

The purpose of this notice is to allow an additional 30 days for public comments. Comments are encouraged and will be accepted until May 21, 2012. This process is conducted in accordance with 5 CFR 1320.10.

Written comments and/or suggestions regarding the item(s) contained in this notice, especially regarding the estimated public burden and associated response time, should be directed to the Department of Homeland Security (DHS), and to the Office of Information and Regulatory Affairs, Office of Management and Budget (OMB), USCIS Desk Officer. Comments may be submitted to: USCIS, Chief Regulatory Coordinator, Regulatory Coordination Division, Clearance Office, 20 Massachusetts Avenue, Washington, DC 20529. Comments may also be submitted to DHS via facsimile to 202-272-0997 or via email at uscisfrcomment@dhs.gov, and to the OMB USCIS Desk Officer via facsimile at 202-395-5806 or via email at oira_submission@omb.eop.gov.

When submitting comments by email please make sure to add OMB Control Number 1615-0096 in the subject box. Written comments and suggestions from the public and affected agencies should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of This Information Collection

(1) Type of Information Collection: Extension of an existing information collection.

(2) Title of the Form/Collection: Genealogy Index Search Request and Genealogy Records Request.

(3) Agency form number, if any, and the applicable component of the Department of Homeland Security sponsoring the collection: Forms G-1041 and G-1041A. U.S. Citizenship and Immigration Services.

(4) Affected public who will be asked or required to respond, as well as a brief abstract: Primary: Individuals and households. USCIS will use these forms will to facilitate an accurate and timely response to genealogy index search and records requests.

(5) An estimate of the total number of respondents and the amount of time estimated for an average respondent to respond:

Form G-1041—2,570 responses (electronically submitted) at .50 hours (30 minutes) per response and 1,080 responses (submitted by mail) at .58 hours (35 minutes).

Form G-1041A—1,683 responses (electronically submitted) at 1 hour (60 minutes) per response and 823 responses (submitted by mail) at 1.08 hours (68 minutes).

(6) An estimate of the total public burden (in hours) associated with the collection: 4,483.4 annual burden hours.

If you have additional comments, suggestions, or need a copy of the proposed information collection instrument with instructions, or additional information, please visit the USCIS Web site at: http://www.regulations.gov/search/index.jsp.

If additional information is required contact: USCIS, Regulatory Coordination Division, 20 Massachusetts Avenue, Washington, DC 20529, (202) 272-1470.

Dated: April 16, 2012.
Laura Dawkins,
Acting Chief Regulatory Coordinator, Regulatory Coordination Division, Office of Policy and Strategy, U.S. Citizenship and Immigration Services, Department of Homeland Security.

[FR Doc. 2012-9617 Filed 4-19-12; 8:45 am]

BILLING CODE 9111-97-P